DEPARTMENT OF TRANSPORTATION

Office of the Secretary

Fitness Determination of Sunair Express, LLC

AGENCY: Department of Transportation.

ACTION: Notice of Order to Show Cause (Order 2001-4-3) Docket OST-00-8015.

SUMMARY: The Department of Transportation is proposing to find that SunAir Express, LLC is fit, willing, and able, to provide commuter air service under 49 U.S.C. 41738.

Responses:

Objections and answers to objections should be filed in Docket OST-00-8015 and addressed to the Department of Transportation Dockets, PL-401, 400 Seventh Street, SW., Washington, DC 20590, and should be served on all persons listed in Attachment A to the order. Persons wishing to file objections should do so no later than April 18, 2001.

FOR FURTHER INFORMATION CONTACT: Mr. James Lawyer, Air Carrier Fitness Division (X-56, Room 6401), U.S. Department of Transportation, 400 Seventh Street, SW., Washington, DC 20590, (202) 366-1064.

Dated: April 4, 2001.
Susan E. McDermott,
Deputy Assistant Secretary for Aviation and International Affairs.

[FR Doc. 01-8759 Filed 4-9-01; 8:45 am]

BILLING CODE 4910-62-P